DEPARTMENT OF ENERGY

Federal Energy Regulatory Commission

[Docket No. ER01-3155-000]

New York Independent System Operator, Inc.; Notice of Filing

October 3, 2001.

Take notice that on September 28, 2001, the New York Independent System Operator, Inc. (NYISO), at the Direction of its independent Board of Directors, made a filing with the Federal Energy Regulatory Commission (Commission) under Section 205 of the Federal Power Act to extend the expiration date for its Automated Mitigation Procedure to October 31, 2002. The NYISO has requested that the Commission act on this filing in an expedited manner and that it shortens the usual period for comments. The NYISO has also requested that the Commission waive its usual 60-day notice requirement and make the filing effective no later than November 1, 2001.

The NYISO has served a copy of the filing on all parties in Docket No. ER01-2076. The NYISO has also emailed a copy of this filing to all of the subscribers to the NYISO's Technical Information Exchange list.

Any person desiring to be heard or to protest such filing should file a motion to intervene or protest with the Federal Energy Regulatory Commission, 888 First Street, NE, Washington, DC 20426, in accordance with Rules 211 and 214 of the Commission's Rules of Practice and Procedure (18 CFR 385.211 and 385.214). All such motions and protests should be filed on or before October 19, 2001. Protests will be considered by the Commission to determine the appropriate action to be taken, but will not serve to make protestants parties to the proceedings. Any person wishing to become a party must file a motion to intervene. Copies of this filing are on file with the Commission and are available for public inspection. This filing may also be viewed on the Commission's Web site at http://www.ferc.gov using the “RIMS” link, select “Docket#” and follow the instructions (call 202-208-2222 for assistance). Comments, protests and interventions may be filed electronically via the internet in lieu of paper. See, 18 CFR 385.2001(a)(1)(iii) and the instructions on the Commission's Web site under the “e-filing” link.

Linwood A. Watson, Jr.,
Acting Secretary.

[FR Doc. 01-25360 Filed 10-9-01; 8:45 am]

BILLING CODE 6717-01-P